DEPARTMENT OF THE TREASURY

Office of the Comptroller of the Currency

[Docket ID OCC-2020-0021]

Minority Depository Institutions Advisory Committee; Meeting

AGENCY: Office of the Comptroller of the Currency, Department of the Treasury.

ACTION: Notice of meeting.

SUMMARY: The Office of the Comptroller of the Currency (OCC) announces a meeting of the Minority Depository Institutions Advisory Committee (MDIAC).

DATES: The OCC MDIAC will hold a public meeting on Wednesday, June 17, 2020, via remote means beginning at 10:00 a.m. Eastern Daylight Time (EDT).

ADDRESSES: The OCC will hold the June 17, 2020 meeting of the MDIAC via remote means.

FOR FURTHER INFORMATION CONTACT: Beverly Cole, Designated Federal Officer and Deputy Comptroller for the Northeastern District, (212) 790-4001, Office of the Comptroller of the Currency, 340 Madison Ave., Fifth Floor, New York, New York 10173.

SUPPLEMENTARY INFORMATION: By this notice, the OCC is announcing that the MDIAC will convene a meeting at 10:00 a.m. EDT on Wednesday, June 17, 2020, via remote means. Agenda items will include current topics of interest to the industry. The purpose of the meeting is for the MDIAC to advise the OCC on steps the agency may be able to take to ensure the continued health and viability of minority depository institutions and other issues of concern to minority depository institutions. Members of the public may submit written statements to the MDIAC by email to: MDIAC@OCC.treas.gov.

The OCC must receive written statements no later than 5:00 p.m. EDT on Wednesday, June 10, 2020. Members of the public who plan to attend the meeting via remote means should contact the OCC by 5:00 p.m. EDT on Wednesday, June 10, 2020, to inform the OCC of their desire to attend the meeting and to obtain information about participation via remote means. Members of the public may contact the OCC via email at MDIAC@OCC.treas.gov or by telephone at (212) 790-4001. Attendees should provide their full name, email address, and organization, if any. Members of the public who are hearing impaired should call (202) 649-5597 (TTY) no later than 5:00 p.m. EDT on Wednesday, June 10, 2020, to arrange auxiliary aids such as sign language interpretation for this meeting.

Brian P. Brooks,
First Deputy Comptroller of the Currency.

[FR Doc. 2020-11575 Filed 5-28-20; 8:45 am]

BILLING CODE 4810-33-P